DEPARTMENT OF COMMERCE

National Oceanic and Atmospheric Administration

RIN 0648-XD399

Gulf of Mexico Fishery Management Council; Public Meetings

AGENCY: National Marine Fisheries Service (NMFS), National Oceanic and Atmospheric Administration (NOAA), Commerce.

ACTION: Notice; public meetings.

SUMMARY: The Gulf of Mexico Fishery Management Council (Council) will hold a meeting of the Standing, Special Reef Fish and Special Shrimp Scientific and Statistical Committees (SSC).

DATES: The meetings will be held from 1 p.m. Wednesday, August 6 until 1 p.m., Thursday, August 7, 2014.

ADDRESSES:

Meeting address: The meetings will be held at the Gulf Council's office.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agendas are as follows:

Standing SSC and Standing and Special Reef Fish SSC Agenda, Wednesday, August 6, 2014, 1 p.m. Until 5 p.m.

Standing SSC Agenda

1. Adoption of Agenda

2. Election of Chair and Vice-chair

3. Alternative ABC Control Rule Analyses

4. Review of Options Paper to Define Status Determination Criteria and Optimum Yield for All Finfish Stocks

5. Other Standing SSC Business

Standing and Special Reef Fish SSC Agenda

1. Approval of June 3-5, 2013 Standing, Ecosystem and Special Reef Fish SSC summary minutes

2. Gag OFLs and ABCs

3. Terms of Reference

a. FWC Black Grouper Update Assessment

b. SEDAR Red Snapper Update Assessment

4. SEDAR 42 (Red Grouper Benchmark) Data Workshop Participant Needed

5. Review of SEDAR Schedule

6. Other Reef Fish SSC Business

Standing and Special Shrimp SSC Agenda, Thursday, August 7, 2014, 8 a.m. Until 1p.m.

1. Approval of March 19, 2014 Standing and Special Shrimp SSC summary minutes

2. Review 2 year provision addition for Action 1.1 and Action 1.2 of Shrimp Amendment 15

3. Discuss upcoming Shrimp Amendment 17 Data Needs and Analyses including: Biological Yield, Economic Yield, CPUE, Shrimping Effort, and Permit Activity Over Time

4. Selection of SSC representative at August 25-29, 2014 Council meeting (Biloxi)

5. Other Shrimp SSC Business

The Agenda is subject to change, and the latest version will be posted on the Council's file server, which can be accessed by going to the Council Web site at http://www.gulfcouncil.org and clicking on FTP Server under Quick Links. The meetings will be webcast over the internet. A link to the webcast will be available on the Council's Web site, http://www.gulfcouncil.org.

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 16, 2014.
Tracey L. Thompson,
Acting Deputy Director, Office of Sustainable Fisheries, National Marine Fisheries Service.

[FR Doc. 2014-17088 Filed 7-18-14; 8:45 am]

BILLING CODE 3510-22-P